DEPARTMENT OF COMMERCE

International Trade Administration

[A-549-820]

Notice of Final Determination of Sales at Less Than Fair Value and Negative Final Determination of Critical Circumstances: Prestressed Concrete Steel Wire Strand from Thailand

AGENCY: Import Administration, International Trade Administration, Department of Commerce.

ACTION: Notice of final determination of sales at less than fair value and negative final determination of critical circumstances.

EFFECTIVE DATE: December 8, 2003.

FOR FURTHER INFORMATION CONTACT: Carol Henninger or Constance Handley, at (202) 482-3003 or (202) 482-0631, respectively; Import Administration, International Trade Administration, U.S. Department of Commerce, 14th Street and Constitution Avenue NW, Washington, DC 20230.

SUPPLEMENTARY INFORMATION:

Final Determination

We determine that prestressed concrete steel wire strand (PC strand) from Thailand is being sold, or is likely to be sold, in the United States at less than fair value (LTFV), as provided in section 735 of the Tariff Act of 1930, as amended (the Act). The estimated margins of sales at LTFV are shown in the Suspension of Liquidation section of this notice. In addition, we determine that critical circumstances do not exist with respect to PC strand produced and exported by the respondent in this investigation as well as all other producers/exporters.

Case History

The preliminary determination in this investigation was published on July 17, 2003. See Notice of Preliminary Determination of Sales at Less Than Fair Value, Postponement of Final Determination, and Negative Preliminary Determination of Critical Circumstances: Prestressed Concrete Steel Wire Strand from Thailand, 68 FR 42373 (July 17, 2003) (Preliminary Determination). Since the publication of the preliminary determination, the following events have occurred:

On July 25, 2003, the Department of Commerce (the Department) received a request from the respondent in this investigation, Siam Industrial Wire Co., Ltd. and Cementhai SCT USA (collectively, SIW), proposing a suspension agreement in accordance with the Department's regulations at 19 CFR 351.208. On several occasions, the Department discussed the proposed suspension agreement with counsel to SIW, who subsequently concluded that a suspension agreement would not be pursued. See Memorandum from Gary Taverman, Director, Office 5, to the File, Re: PC Strand from Thailand - Proposed Suspension Agreement (November 24, 2003).

In September 2003, the Department verified the questionnaire responses submitted by SIW. The sales and cost verification reports were issued in October 2003. On October 23, 2003, we received case briefs from the petitioners¹ and SIW. On October 28, 2003, we received a rebuttal brief from SIW. A public hearing was held on November 3, 2003.

¹ The petitioners in this investigation are American Spring Wire Corp., Insteel Wire Products Company, and Sumiden Wire Products Corp.

Scope of Investigation

For purposes of this investigation, PC strand is steel strand produced from wire of non-stainless, non-galvanized steel, which is suitable for use in prestressed concrete (both pretensioned and post-tensioned) applications. The product definition encompasses covered and uncovered strand and all types, grades, and diameters of PC strand.

The merchandise under investigation is currently classifiable under subheadings 7312.10.3010 and 7312.10.3012 of the Harmonized Tariff Schedule of the United States (HTSUS). Although the HTSUS subheadings are provided for convenience and customs purposes, the written description of the merchandise under investigation is dispositive.

Period of Investigation

The period of investigation (POI) is January 1, 2002, through December 31, 2002. This period corresponds to the four most recent fiscal quarters prior to the month of the filing of the petition (i.e., January 2003) involving imports from a market economy, and is in accordance with the Department's regulations. See 19 CFR 351.204(b)(1).

Critical Circumstances

Section 735(a)(3) of the Act provides that the Department will determine that critical circumstances exist if there is a reasonable basis to believe or suspect that: (A)(i) there is a history of dumping and material injury by reason of dumped imports in the United States or elsewhere of the subject merchandise, or (ii) the person by whom, or for whose account, the merchandise was imported knew or should have known that the exporter was selling the subject merchandise at less than fair value and that there was likely to be material injury by reason of such sales, and (B) there have been massive imports of the subject merchandise over a relatively short period.

In the preliminary determination of this investigation, the Department found that critical circumstances did not exist because there was no reasonable basis to impute knowledge of dumping with respect to imports of PC strand from Thailand, nor was there a history of dumping of PC strand from Thailand. See Preliminary Determination at 42377; see also, Antidumping Duty Investigation of Prestressed Concrete Steel Wire Strand from Thailand Preliminary Negative Determination of Critical Circumstances Memorandum from Salim Bhabhrawala and Carol Henninger to Gary Taverman, July 10, 2003, on file in the CRU. The Department normally considers margins of 25 percent or more for export price (EP) sales and 15 percent or more for constructed export price (CEP) sales sufficient to impute knowledge of dumping. See e.g., Preliminary Determination of Sales at Less Than Fair Value: Certain Cut-to-Length Carbon Steel Plate From the People's Republic of China, 62 FR 31972, 31978 (June 11, 1997). Because the final dumping margin for the respondent is less than 15 percent, we continue to find there is no reasonable basis to impute knowledge of dumping with respect to these imports from Thailand. As noted in the preliminary determination, it is the Department's practice to conduct its critical circumstances analysis of companies in the “All Others” category based on the experience of the investigated company. Because there is no history of dumping of PC strand from Thailand and the final dumping margin for SIW is less than 15 percent, we are determining that critical circumstances do not exist for SIW, as well as all other producers/exporters covered by the “All Others” rate. Accordingly, we find that critical circumstances do not exist for imports of PC strand from Thailand.

Verification

As provided in section 782(i) of the Act, we conducted verification of the cost and sales information submitted by SIW. We used standard verification procedures including examination of relevant accounting and production records, and original source documents provided by the respondent.

Analysis of Comments Received

All issues raised in the case and rebuttal briefs submitted by parties to this proceeding are listed in the appendix to this notice and addressed in the Memorandum from Holly A. Kuga, Acting Deputy Assistant Secretary, to James J. Jochum, Assistant Secretary for Import Administration, RE: Issues and Decision Memorandum for the Final Determination of the Investigation of Prestressed Concrete Steel Wire Strand from Thailand (Decision Memorandum), dated December 1, 2003, and are hereby adopted by this notice. The Decision Memorandum is on file in room B-099 of the main Department building. In addition, a complete version of the Decision Memorandum can be accessed directly on the World Wide Web at www.ita.doc.gov/import_admin/ records/frn. The paper and electronic versions of the Decision Memorandum are identical in content.

Changes Since The Preliminary Determination

Based on our findings at verification, and analysis of comments received, we have made adjustments to the preliminary determination calculation methodologies in calculating the final dumping margins in this proceeding. These adjustments are discussed in the Decision Memorandum for this investigation.

Continuation of Suspension of Liquidation

In accordance with section 735(c)(1)(B) of the Act, we are directing U.S. Customs and Border Patrol (CBP) to continue to suspend liquidation of all entries of PC strand exported from Thailand, that are entered, or withdrawn from warehouse, for consumption on or after the date of publication of the preliminary determination. CBP shall continue to require a cash deposit or the posting of a bond based on the estimated weighted-average dumping margins shown below. The suspension of liquidation instructions will remain in effect until further notice.

We determine that the following weighted-average dumping margins exist for Thailand:

Manufacturer/exporter | Margin ­(percent)
Siam Industrial Wire Co., Ltd. | 12.99
All Others | 12.99

International Trade Commission Notification

In accordance with section 735(d) of the Act, we have notified the International Trade Commission (ITC) of our determination. The ITC will determine, within 45 days, whether imports of subject merchandise from Canada are causing material injury, or threaten material injury, to an industry in the United States. If the ITC determines that material injury or threat of material injury does not exist, this proceeding will be terminated and all securities posted will be refunded or canceled. If the ITC determines that such injury does exist, the Department will issue an antidumping order directing CBP officials to assess antidumping duties on all imports of the subject merchandise entered, or withdrawn from warehouse for consumption on or after the effective date of the suspension of liquidation.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: December 1, 2003.
James J. Jochum,
Assistant Secretary for Import Administration.

APPENDIX

Issues Covered in Decision Memorandum

Comment 1: Allocation of Conversion Costs

Comment 2: Treatment of SIW's Home Market Back-to-Back Sales

Comment 3: Whether to Allow a Constructed Export Price Offset

Comment 4: Corrections to SIW's U.S. sales

Comment 5: Corrections to SIW's Home Market Sales

Comment 6: Corrections to Errors Contained in the Preliminary Margin Calculation Program

[FR Doc. 03-30383 Filed 12-5-03; 8:45 am]

BILLING CODE 3510-DS-S